INTERNATIONAL TRADE COMMISSION

[Investigations Nos. 303-TA-21 (Review) and 731-TA-451, 461, and 519 (Review)]

Gray Portland Cement and Cement Clinker From Japan, Mexico, and Venezuela ¹

¹ The investigation numbers are as follows: Japan is 731-TA-461 (Review); Mexico is 731-TA-451 (Review); and Venezuela is 303-TA-21 (Review) and 731-TA-519 (Review).

Determinations

On the basis of the record ² developed in the subject five-year reviews, the United States International Trade Commission determines,³ pursuant to section 751(c) of the Tariff Act of 1930 (19 U.S.C. § 1675(c)) (the Act), that revocation of the antidumping duty orders on gray portland cement and cement clinker from Japan and Mexico would be likely to lead to continuation or recurrence of material injury to an industry in the United States within a reasonably foreseeable time ⁴ and that termination of the suspended investigations on gray portland cement and cement clinker from Venezuela would not be likely to lead to continuation or recurrence of material injury to an industry in the United States within a reasonably foreseeable time.

² The record is defined in sec. 207.2(f) of the Commission's Rules of Practice and Procedure (19 CFR § 207.2(f)).

³ Commissioner Bragg not participating.

⁴ Commissioner Askey dissenting.

Background

The Commission instituted these reviews on August 2, 1999 (64 F.R. 41958) and determined on November 4, 1999 that it would conduct full reviews (64 F.R. 62689, November 17, 1999). Notice of the scheduling of the Commission's reviews and of a public hearing to be held in connection therewith was given by posting copies of the notice in the Office of the Secretary, U.S. International Trade Commission, Washington, DC, and by publishing the notice in the Federal Register on April 5, 2000 (65 F.R. 17901).⁵ The hearing was held in Washington, DC, on August 15, 2000, and all persons who requested the opportunity were permitted to appear in person or by counsel.

⁵ The Commission revised and extended its schedule for these reviews on September 7, 2000 (65 F.R. 55269, September 13, 2000).

The Commission transmitted its determinations in these investigations to the Secretary of Commerce on October 25, 2000. The views of the Commission are contained in USITC Publication 3361 (October 2000), entitled Gray Portland Cement and Cement Clinker from Japan, Mexico, and Venezuela: Investigations Nos. 303-TA-21 (Review) and 731-TA-451, 461, and 519 (Review).

Issued: October 27, 2000.
By order of the Commission.
Donna R. Koehnke,
Secretary.

[FR Doc. 00-28040 Filed 10-31-00; 8:45 am]

BILLING CODE 7020-02-P